FEDERAL COMMUNICATIONS COMMISSION

47 CFR Part 73

[DA 02-1378; MM Docket No. 01-322; RM-10332]

Radio Broadcasting Services; Fremont and Sunnyvale, CA

AGENCY: Federal Communications Commission.

ACTION: Final rule.

SUMMARY: In response to a Notice of Proposed Rule Making, 66 FR 63654 (December 10, 2001) this document reallots Channel 285A from Fremont, California to Sunnyvale, California and provides Sunnyvale with its first local aural transmission service. The coordinates for Channel 285A at Sunnyvale are 37-18-41 North Latitude and 121-48-58 West Longitude.

DATES: Effective July 29, 2002.

FOR FURTHER INFORMATION CONTACT: R. Barthen Gorman, Media Bureau, (202) 418-2180.

SUPPLEMENTARY INFORMATION: This is a synopsis of the Commission's Report and Order, MM Docket No. 01-322, adopted June 5, 2002, and released June 14, 2002. The full text of this Commission decision is available for inspection and copying during normal business hours in the FCC's Reference Information Center at Portals II, CY-A245 12th Street, SW., Washington, DC. This document may also be purchased from the Commission's duplicating contractors, Qualex International, Portals II, 445 12th Street, SW., Room CY-B402, Washington, DC, 20554, telephone 202-863-2893, facsimile 202-863-2898, or via e-mail qualexint@aol.com.

List of Subjects in 47 CFR Part 73

Radio broadcasting.

Part 73 of Title 47 of the Code of Federal Regulations is amended as follows:

PART 73—[AMENDED]

1. The authority citation for part 73 continues to read as follows:

Authority: 47 U.S.C. 154, 303, 334 and 336.

§ 73.202 [Amended]

2. Section 73.202(b), the Table of FM Allotments under California, is amended by removing Fremont, Channel 285A, and adding Sunnyvale, Channel 285A.

Federal Communications Commission.
John A. Karousos,
Assistant Chief, Audio Division, Office of Broadcast License Policy, Media Bureau.

[FR Doc. 02-15675 Filed 6-21-02; 8:45 am]

BILLING CODE 6712-01-P